DEPARTMENT OF ENERGY

State Energy Advisory Board (STEAB)

AGENCY: Energy Efficiency and Renewable Energy, Department of Energy.

ACTION: Notice of Open Live Board Meeting.

SUMMARY: This notice announces a Board meeting of the State Energy Advisory Board (STEAB). The Federal Advisory Committee Act (Public Law 92-463; 86 Stat. 770) requires that public notice of these meetings be announced in the Federal Register.

DATES: March 9th, 2016, 9:00 a.m. to 5:30 p.m.; March 10th, 2016, 9:00 a.m. to 3:30 p.m.

ADDRESSES: Renaissance Arlington Capital View Hotel, 2800 South Potomac Ave., Arlington, Virginia 22202 USA.

FOR FURTHER INFORMATION CONTACT: Michael Li, Policy Advisor, Office of Energy Efficiency and Renewable Energy, U.S. Department of Energy, 1000 Independence Ave. SW., Washington, DC 20585. Phone number 202-287-5189, and email Michael.li@ee.doe.gov.

SUPPLEMENTARY INFORMATION:

Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: Meet with and hear from the Assistant Secretary of the Office of Energy Efficiency and Renewable Energy, the two Deputy Assistant Secretary's for Energy Efficiency and Renewable Energy, meet with the QER Team within the Office of Energy Policy and Systems Analysis (EPSA), engage with the Office of Technology Transitions, discuss updates and provide recommendations on the Weatherization Assistance Program, and update members of the Board on routine business matters.

Public Participation: The meeting is open to the public. Written statements may be filed with the Board either before or after the meeting. Members of the public who wish to make oral statements pertaining to agenda items should contact Monica Neukomm at the address or telephone number listed above. Requests to make oral comments must be received five days prior to the meeting; reasonable provision will be made to include requested topic(s) on the agenda. The Chair of the Board is empowered to conduct the meeting in a fashion that will facilitate the orderly conduct of business.

Minutes: The minutes of the meeting will be available for public review and copying within 90 days on the STEAB Web site, http://www.energy.gov/eere/steab/state-energy-advisory-board.

Issued at Washington, DC, on February 5, 2016.
LaTanya Butler,
Deputy Committee Management Officer.

[FR Doc. 2016-02796 Filed 2-11-16; 8:45 am]

BILLING CODE 6450-01-P